DEPARTMENT OF TRANSPORTATION

National Highway Traffic Safety Administration

[U.S. DOT Docket Number NHTSA-2000-6887; Notice 2]

Reports, Forms, and Record Keeping Requirements

AGENCY: National Highway Traffic Safety Administration (NHTSA), Department of Transportation.

ACTION: Request for public comment on additional collection of information for an existing collection.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes one collection of information for which NHTSA intends to seek OMB approval. This collection is an additional collection of information for an existing collection.

Dates: Comments must be received on or before February 19, 2002.

ADDRESSES: Comments must refer to the docket notice numbers cited at the beginning of this notice and be submitted to Docket Management, Room PL-401, 400 Seventh Street, SW., Washington, DC 20590. Please identify the proposed collection of information for which a comment is provided, by referencing its OMB clearance Number. It is requested, but not required, that 2 copies of the comment be provided. The Docket Section is open on weekdays from 10 a.m. to 5 p.m.

FOR FURTHER INFORMATION CONTACT: For further information, contact Mr. Roger Kurrus, Office of Planning and Consumer Programs, 400 Seventh Street, SW., Washington, DC 20590. Mr. Kurrus' telephone number is (202) 366-2750. His FAX number is (202) 493-2290. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g. permitting electronic submission of responses.

In compliance with these requirements, NHTSA asks for public comments on the following proposed collections of information:

Title: Tires and Rim Labeling and Vehicle Placard Requirements.

OMB Control Number: 2127-0503.

Affected Public: Tire and Rim Manufacturers, Vehicle Manufacturers.

Abstract: Each tire manufacturer and rim manufacturer must label their tire and rim with the applicable safety information. These labeling requirements ensure that tires are mounted on the appropriate rims, that necessary tire recall information is readily available, and that the rims and tires are mounted on the vehicles for which they are intended. Each vehicle manufacturer must provide labels and placards to ensure that proper load limit and tire inflation pressure information is available. This labeling must be in accordance with Federal Motor Vehicle Safety Standards and regulations.

Estimated Annual Burden: 265,702.

Estimated Number of Respondents: 7,608.

Issued on: December 12, 2001.
Stephen R. Kratzke,
Associate Administrator for Safety Performance Standards.

[FR Doc. 01-31115 Filed 12-17-01; 8:45 am]

BILLING CODE 4910-59-P